DEPARTMENT OF DEFENSE

Office of the Secretary

Defense Advisory Committee on Investigation, Prosecution, and Defense of Sexual Assault in the Armed Forces; Notice of Federal Advisory Committee Meeting

AGENCY: General Counsel of the Department of Defense (DoD), DoD.

ACTION: Notice of Federal Advisory Committee meeting.

SUMMARY: The DoD is publishing this notice to announce that the following Federal Advisory Committee meeting of the Defense Advisory Committee on Investigation, Prosecution, and Defense of Sexual Assault in the Armed Forces will take place.

DATES: Thursday, June 27, 2024—Open to the public from 3:00 p.m. to 4:00 p.m.

ADDRESSES: This meeting is being held virtually. For virtual access to the meeting, email your request along with your name and contact information to the DAC-IPAD public email at whs.pentagon.em.mbx.dacipad@mail.mil.

FOR FURTHER INFORMATION CONTACT: Dwight Sullivan, 703-695-1055 (Voice), dwight.h.sullivan.civ@mail.mil (Email). Mailing address is DAC-IPAD, One Liberty Center, 875 N Randolph Street, Suite 150, Arlington, Virginia 22203. Website: https://dacipad.whs.mil/. The most up-to-date changes to the meeting agenda can be found on the website.

SUPPLEMENTARY INFORMATION: This meeting is being held under the provisions of chapter 10 of title 5 United States Code (U.S.C.) (commonly known as the Federal Advisory Committee Act of 1972 (5 U.S.C., App.) or “FACA”), the Government in the Sunshine Act of 1976 (5 U.S.C. 552b, as amended), and 41 Code of Federal Regulations (CFR) 102-3.140 and 102-3.50.

Due to circumstances beyond the control of the Designated Federal Officer, the Defense Advisory Committee on Investigation, Prosecution, and Defense of Sexual Assault in the Armed Forces was unable to provide public notification required by 41 CFR 102-3.150(a) concerning its June 27, 2024 meeting. Accordingly, the Advisory Committee Management Officer for the Department of Defense, pursuant to 41 CFR 102-3.150(b), waives the 15-calendar day notification requirement.

Purpose of the Meeting: In section 546 of the National Defense Authorization Act for Fiscal Year 2015 (Pub. L. 113-291), as modified by section 537 of the National Defense Authorization Act for Fiscal Year 2016 (Pub. L. 114-92), Congress tasked the DAC-IPAD to advise the Secretary of Defense on the investigation, prosecution, and defense of allegations of rape, sexual assault, and other sexual misconduct involving members of the Armed Forces. This will be the thirty-sixth public meeting held by the DAC-IPAD. At this meeting the Committee will conduct deliberations on the draft DAC-IPAD Report on Exploring the Race, Ethnicity, and Gender of Military Panels at Courts-Martial, and a draft DAC-IPAD letter to the DoD General Counsel on concerns in the field regarding Office of Special Trial Counsel and Trial Defense Service staffing.

Agenda: 3:00 p.m.-3:05 p.m. Welcome and Introduction to the Public Meeting; 3:05 p.m.-3:45 p.m. Committee Deliberations—Draft Report on Exploring the Race, Ethnicity, and Gender of Military Panels at Courts-Martial; 3:45 p.m.-4:00 p.m. Committee Deliberations—Draft Letter to the DoD General Counsel on Staffing Issues Regarding the Office of Special Trial Counsel and Trial Defense Service; 4:00 p.m. Meeting Adjourn.

Meeting Accessibility: Pursuant to 5 U.S.C. 552b and 41 CFR 102-3.140 through 102-3.165, this meeting is open to the public from 3:00 p.m. to 4:00 p.m. on June 27, 2024. All members of the public who wish to participate virtually must register by contacting DAC-IPAD at whs.pentagon.em.mbx.dacipad@mail.mil or by contacting Mr. Pete Yob at (703) 693-3857 no later than Wednesday, June 26, 2024. Once registered, the web address and/or audio number will be provided.

Special Accommodations:Individuals requiring special accommodations to access the public meeting should contact Mr. Pete Yob at (703) 693-3857 no later than June 26, 2024 so that appropriate arrangements can be made.

Written Statements: Pursuant to 41 CFR 102-3.140 and 10(a)(3) of the FACA, the public or interested organizations may submit written comments to the Committee about its mission and topics pertaining to this public session. Written comments must be received by the DAC-IPAD prior to the meeting date so that they may be made available to the Committee members for their consideration prior to the meeting. Written comments not received by the DAC-IPAD prior to the meeting date will be provided to the Chair of the DAC-IPAD for consideration. Written comments may be submitted via email to the DAC-IPAD at whs.pentagon.em.mbx.dacipad@mail.mil in the following formats: Adobe Acrobat or Microsoft Word. Written comments may also be mailed to the address listed in FOR FURTHER INFORMATION CONTACT. Please note that since the DAC-IPAD operates under the provisions of the FACA, all written comments received will be treated as public documents and will be made available for public inspection.

Dated: June 20, 2024.
Aaron T. Siegel,
Alternate OSD Federal Register Liaison Officer, Department of Defense.

[FR Doc. 2024-14006 Filed 6-25-24; 8:45 am]

BILLING CODE 6001-FR-P